DEPARTMENT OF TRANSPORTATION

Federal Aviation Administration

14 CFR Part 71

[Docket No. FAA-2016-9118; Airspace Docket No. 16-AGL-3]

Proposed Amendment of Class D and E Airspace for the Following North Dakota Towns; Wahpeton, ND; Hettinger, ND; Fargo, ND; Grand Fork, ND; Carrington, ND; Cooperstown, ND; Pembina, ND; Rugby, ND; Devils Lake, ND; Bottineau, ND; Valley City, ND and Gwinner, ND

AGENCY: Federal Aviation Administration (FAA), DOT.

ACTION: Notice of proposed rulemaking (NPRM).

SUMMARY: This action proposes to modify Class E airspace extending upward from 700 feet above the surface at Wahpeton/Harry Stern Airport, Wahpeton, ND; Hettinger Municipal Airport, Hettinger, ND; Gwinner-Roger Melroe Field, Gwinner, ND; and Rugby Municipal Airport, Rugby, ND. Decommissioning of non-directional radio beacons (NDBs), cancellation of NDB approaches, and implementation of area navigation (RNAV) procedures have made this action necessary for the safety and management of Instrument Flight Rules (IFR) operations at these airports. This action would also update the geographic coordinates and airport names for certain airports listed also under these airports in the Class D and E airspace areas.

DATES: Comments must be received on or before February 27, 2017.

ADDRESSES: Send comments on this proposal to the U.S. Department of Transportation, Docket Operations, West Building Ground Floor, Room W12-140, 1200 New Jersey Avenue SE., Washington, DC 20590; telephone (202) 366-9826, or 1-800-647-5527. You must identify FAA Docket No. FAA-2016-9118; Airspace Docket No. 16-AGL-3 at the beginning of your comments. You may also submit comments through the Internet at http://www.regulations.gov. You may review the public docket containing the proposal, any comments received, and any final disposition in person in the Dockets Office between 9:00 a.m. and 5:00 p.m., Monday through Friday, except Federal holidays.

FAA Order 7400.11, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Ron Laster, Contract Support, Federal Aviation Administration, Operations Support Group, Central Service Center, 10101 Hillwood Parkway, Fort Worth, TX 76177; telephone (817) 222-5879.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend controlled airspace in the respective Class D and E airspace areas at Wahpeton/Harry Stern Airport, Wahpeton, ND; Hettinger Municipal Airport, Hettinger, ND; Gwinner-Roger Melroe Field, Gwinner, ND; Rugby Municipal Airport, Rugby, ND; Hector International Airport, Fargo, ND; Grand Forks Air Force Base, Grand Forks, ND; Carrington Municipal Airport, Carrington, ND; Pembina Municipal Airport, Pembina, ND; Bottineau Municipal Airport, Bottineau, ND; Cooperstown Municipal Airport, ND; Devils Lake Regional Airport, Devils Lake, ND, and Barnes County Municipal Airport, Valley City, ND.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2016-9118/Airspace Docket No. 16-AGL-3.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://www.regulations.gov. Recently published rulemaking documents can also be accessed through the FAA's Web page.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents Proposed for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Proposal

The FAA is proposing an amendment to Title 14 Code of Federal Regulations (14 CFR) part 71 by modifying:

Geographic coordinates in Class D airspace for Hector International Airport, Fargo, ND; Class E airspace extending upward from 700 feet above the surface:

Within a 6.4-mile radius (previously a 7-mile radius) of Harry Stern Airport, Wahpeton, ND, and updating the geographic coordinates of the airport to coincide with the FAA's aeronautical database;

Within a 6.4-mile radius (previously a 7-mile radius) of Hettinger Municipal Airport, Hettinger, ND, and updating the geographic coordinates of the airport to coincide with the FAA's aeronautical database;

Within a 6.5-mile radius (previously a 7-mile radius) of Gwinner-Roger Melroe Field, Gwinner, ND; and updating the geographic coordinates of the airport to coincide with the FAA's aeronautical database;

Within a 6.3-mile radius (previously a 7-mile radius) of Rugby Municipal Airport, Rugby, ND; and updating the geographic coordinates of the airport to coincide with the FAA's aeronautical database.

Airspace reconfiguration is necessary due to the decommissioning of NDBs, cancellation of NDB approaches, and implementation of RNAV procedures that would enhance the safety and management of standard instrument approach procedures for IFR operations at these airports. The geographic coordinates would be adjusted for Hector International Airport, Fargo, ND; Grand Forks Air Force Base, Grand Forks, ND; Barnes County Municipal Airport, Valley City, ND; Pembina Municipal Airport, Pembina, ND; Devils Lake VOR/DME; Devils Lake Regional Airport, Devils Lake, ND; Carrington Municipal Airport, Carrington, ND; Bottineau Municipal Airport, Bottineau, ND; Cooperstown Municipal Airport, ND, as well as the airport names for Barnes County Municipal Airport (formerly Valley City/Barnes County Municipal), Valley City, ND, and Devils Lake Regional Airport (formerly Devils Lake Municipal Airport), Devils Lake, ND, to coincide with the FAA's aeronautical database.

Class D and E airspace designations are published in paragraph 5000, 6002, 6004 and 6005, respectively, of FAA Order 7400.11A, dated August 3, 2016, and effective September 15, 2016, which is incorporated by reference in 14 CFR 71.1. The Class D and E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

AGL ND D Fargo, ND [Amended]

Hector International Airport, ND

(Lat. 46°55′14″ N., long. 96°48′57″ W.)

That airspace extending upward from the surface to and including 3,400 feet MSL within a 4.5-mile radius of Hector International Airport.

* * * * *

Paragraph 6002 Class E Airspace Designated as Surface Areas.

* * * * *

AGL ND E2 Devils Lake, ND [Amended]

Devils Lake Regional Airport, ND

(Lat. 48°06′53″ N., long. 98°54′30″ W.)

Devils Lake VOR/DME

(Lat. 48°06′55″ N., long. 98°54′45″ W.)

Within a 4-mile radius of Devils Lake Regional Airport, and within 3 miles each side of the Devils Lake VOR/DME 134° radial extending from the 4-mile radius to 8.7 miles southeast of the VOR/DME and within 2.3 miles each side of the Devils Lake VOR/DME 324° radial extending from the 4-mile radius to 8.7 miles northwest of the VOR/DME. This Class E airspace area is effective during the specific dates and times established in advance by a Notice to Airmen. The effective date and time will thereafter be continuously published in the Chart Supplement.

* * * * *

Paragraph 6004 Class E Airspace Designated as an Extension to a Class D or Class E Surface Area.

* * * * *

AGL ND E4 Fargo, ND [Amended]

Fargo, Hector International Airport, ND

(Lat. 46°55′14″ N., long. 96°48′57″ W.)

Fargo VORTAC

(Lat. 46°45′12″ N., long. 96°51′05″ W.)

That airspace extending upward from the surface within 1.7 miles each side of the Fargo VORTAC 009° radial, extending from the 4.5-mile radius of Hector International Airport to 7.8 miles south of the airport.

* * * * *

Paragraph 6005 Class E Airspace Areas Extending Upward From 700 Feet or More Above the Surface of the Earth.

* * * * *

AGL ND E5 Bottineau, ND [Amended]

Bottineau Municipal Airport, ND

(Lat. 48°49′50″ N., long. 100°25′02″ W.)

That airspace extending upward from 700 feet above the surface within a 6.4-mile radius of Bottineau Municipal Airport, and that airspace extending upward from 1,200 feet above the surface within an area bounded on the north by lat. 49°00′00″ N., on the east by long. 99°49′00″ W., on the south by the 10.5-mile radius of Rugby, ND, Class E airspace area, and on the west by the 47-mile radius of the Minot, ND, Class E airspace area.

AGL ND E5 Carrington, ND [Amended]

Carrington Municipal Airport, ND

(Lat. 47°27′04″ N., long. 99°09′05″ W.)

Devils Lake VOR/DME

(Lat. 48°06′55″ N., long. 98°54′45″ W.)

That airspace extending upward from 700 feet above the surface within a 6.4-mile radius of Carrington Municipal Airport; and that airspace extending upward from 1,200 feet above the surface bounded on the north by the 22-mile arc south of Devils Lake VOR/DME, on the east by V-170, on the south by V-55, on the west by long. 99°30′00″ W., and on the northwest by V-169.

* * * * *

AGL ND E5 Cooperstown, ND [Amended]

Cooperstown Municipal Airport, ND

(Lat. 47°25′22″ N., long. 98°06′21″ W.)

Devils Lake VOR/DME

(Lat. 48°06′55″ N., long. 98°54′45″ W.)

Fargo, Hector International Airport, ND

(Lat. 46°55′14″ N., long. 96°48′57″ W.)

Grand Forks AFB, ND

(Lat. 47°57′41″ N., long. 97°24′04″ W.)

Jamestown VOR/DME

(Lat. 46°55′58″ N., long. 98°40′44″ W.)

Valley City, Barnes County Municipal Airport, ND

(Lat. 46°56′28″ N., long. 98°01′05″ W.)

That airspace extending upward from 700 feet above the surface within a 6.4-mile radius of Cooperstown Municipal Airport and that airspace extending upward from 1,200 feet above the surface within an area bounded on the north by V-430; on the northeast by the 34-mile radius of Grand Forks AFB; on the southeast by the 40-mile radius of Fargo, Hector International Airport; on the south by V-2/V-510 east of Valley City, ND, the 7.9-mile radius of Barnes County Municipal Airport, and V-2/V-510 west of Valley City, ND; on the southwest by the 16.5-mile radius of Jamestown VOR/DME; on the west by V-170; and on the northwest by the 22-mile radius of Devils Lake VOR/DME.

* * * * *

AGL ND E5 Devils Lake, ND [Amended]

Devils Lake Regional Airport, ND

(Lat. 48°06′53″ N., long. 98°54′30″ W.)

Devils Lake VOR/DME

(Lat. 48°06′55″ N., long. 98°54′45″ W.)

That airspace extending upward from 700 feet above the surface within an 8.7-mile radius of Devils Lake Regional Airport and that airspace extending upward from 1,200 feet above the surface within a 22-mile radius of Devils Lake VOR/DME.

* * * * *

AGL ND E5 Gwinner, ND [Amended]

Gwinner-Roger Melroe Field, ND

(Lat. 46°13′06″ N., long. 97°38′36″ W.)

That airspace extending upward from 700 feet above the surface within a 6.5-mile radius of Gwinner-Roger Melroe Field Airport.

* * * * *

AGL ND E5 Hettinger, ND [Amended]

Hettinger Municipal Airport, ND

(Lat. 46°00′54″ N., long. 102°39′22″ W.)

That airspace extending upward from 700 feet above the surface within a 6.5-mile radius of Hettinger Municipal Airport; and that airspace extending upward from 1,200 feet above the surface bounded by a line beginning at lat. 46°20′00″ N., long. 102°58′00″ W., to lat. 46°20′00″ N., long. 102°44′00″ W., to lat. 45°45′00″ N., long. 102°09′00″ W., to lat. 45°45′00″ N., long. 102°58′00″ W., to the point of beginning, excluding that airspace within V-491.

* * * * *

AGL ND E5 Pembina, ND [Amended]

Pembina Municipal Airport, ND

(Lat. 48°56′33″ N., long. 97°14′27″ W.)

Humboldt VORTAC

(Lat. 48°52′09″ N., long. 97°07′02″ W.)

Grand Forks AFB, ND

(Lat. 47°57′41″ N., long. 97°24′03″ W.)

Devils Lake VOR/DME

(Lat. 48°06′55″ N., long. 98°54′45″ W.)

That airspace extending upward from 700 feet above the surface within a 6.2-mile radius of Pembina Municipal Airport, and within 1.8 miles each side of Humboldt VORTAC 132/312° radials extending from the 6.2-mile radius to 7 miles southeast of the airport; and that airspace extending upward from 1,200 feet above the surface beginning at lat. 49°00′00″ N., long. 97°30′01″ W.; to lat. 48°48′00″ N., long. 97°30′01″ W.; to lat. 48°18′34″ N., long. 98°39′53″ W.; thence clockwise around a 15.3-mile radius of Devils Lake VOR/DME to V-430; thence east along V-430 to the intersection of a 34-mile radius of Grand Forks AFB; thence clockwise along the 34-mile radius of Grand Forks AFB to the North Dakota/Minnesota state boundary; thence north along the state boundary to the United States/Canada border; thence west along the United States/Canada border to the point of beginning, excluding that airspace within all Federal airways.

* * * * *

AGL ND E5 Rugby, ND [Amended]

Rugby Municipal Airport, ND

(Lat. 48°23′25″ N., long. 100°01′27″ W.)

That airspace extending upward from 700 feet above the surface within a 6.3-mile radius of Rugby Municipal Airport; and that airspace extending upward from 1,200 feet above the surface within a 13-mile radius of Rugby Municipal Airport, and within 8.1 miles north and 4.2 miles south of the 115° bearing from the airport extending from the 13-mile radius to 16.1 miles east of the airport, and within 8.5 miles south and 3.8 miles north of the 314° bearing from the airport extending from the 13-mile radius to 16.1 miles northwest of the airport, excluding that airspace within Minot, ND, and Rolla, ND, Class E airspace areas, and excluding all Federal airways.

* * * * *

AGL ND E5 Valley City, ND [Amended]

Barnes County Municipal Airport, ND

(Lat. 46°56′28″ N., long. 98°01′05″ W.)

That airspace extending upward from 700 feet above the surface within a 6.4 mile radius of Barnes County Municipal Airport; and that airspace extending upward from 1,200 feet above the surface within a 7.9-mile radius of the airport, and within 4 miles southwest and 8.3 miles northeast of the 133° bearing from the airport extending from the 7.9-mile radius to 21.8 miles southeast of the airport.

* * * * *

AGL ND E5 Wahpeton, ND [Amended]

Harry Stern Airport, ND

(Lat. 46°14′40″ N., long. 96°36′26″ W.)

That airspace extending upward from 700 feet above the surface within a 6.4-mile radius of Harry Stern Airport and that airspace extending upward from 1,200 feet above the surface within a 25-mile radius of Harry Stern Airport bounded on the east by the Minnesota border and on the west by V-181.

Issued in Fort Worth, Texas, on December 15, 2016.
Walter Tweedy,
Acting Manager, Operations Support Group, ATO Central Service Center.

[FR Doc. 2017-00286 Filed 1-12-17; 8:45 am]

BILLING CODE 4910-13-P